NUCLEAR REGULATORY COMMISSION

[Docket No. 30-08478; NRC-2018-0033]

National Institutes of Health

AGENCY: Nuclear Regulatory Commission.

ACTION: Environmental assessment and finding of no significant impact; issuance.

SUMMARY: The U.S. Nuclear Regulatory Commission (NRC) is issuing an environmental assessment (EA) and finding of no significant impact (FONSI) for an exemption request by the National Institutes of Health (NIH). The NIH requested an exemption from the NRC transportation regulations that require NRC licensees to follow the U.S. Department of Transportation (DOT) hazardous material regulations.

DATES: The EA and FONSI referenced in this document are available on February 20, 2018.

ADDRESSES: Please refer to Docket ID NRC-2018-0033 when contacting the NRC about the availability of information regarding this document. You may obtain publicly-available information related to this document using any of the following methods:

• Federal Rulemaking website: Go to http://www.regulations.gov and search for Docket ID NRC-2018-0033. Address questions about NRC dockets to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. In addition, for the convenience of the reader, the ADAMS accession numbers are provided in a table in the “Availability of Documents” section of this document.

• NRC's PDR: You may examine and purchase copies of public documents at the NRC's PDR, Room O1-F21, One White Flint North, 11555 Rockville Pike, Rockville, Maryland 20852.

FOR FURTHER INFORMATION CONTACT: Bernard White, Office of Nuclear Material Safety and Safeguards, U.S. Nuclear Regulatory Commission, Washington, DC 20555-0001; telephone: 301-415-6577; email: Bernard.White@nrc.gov.

SUPPLEMENTARY INFORMATION:

I. Introduction

The NRC is reviewing a request from NIH (or applicant), dated January 19, 2017 (ADAMS Accession No. ML17306A532), for an exemption in accordance with section 71.12 of title 10 of the Code of Federal Regulations (10 CFR). If approved, the action would exempt NIH from the Department of Transportation requirements incorporated in 10 CFR 71.5 for a one-time movement of an irradiator from one building to another on the NIH campus. Therefore, as required by 10 CFR 51.21 and 51.30(a), the NRC staff developed an EA (ADAMS Accession No. ML18036A042) to evaluate the proposed federal action.

The exemption request by NIH would facilitate the movement of an irradiator 0.3 miles through a private parking lot, across a public road, and through another private parking lot to reach its destination. The irradiator will be lifted and moved using a forklift.

Since the movement by NIH will be accomplished using a motor vehicle operated by a Federal government employee solely for noncommercial Federal government purposes, according to 49 CFR 171.1(d)(5), the activity is not subject to DOT's hazardous material regulations. However, since NIH holds an NRC license under 10 CFR part 30, NIH is subject to 10 CFR 71.5, “Transportation of licensed material.” The regulations in 10 CFR 71.5 require an NRC licensee to comply with the DOT regulations in 49 CFR parts 107, 171 through 180, and 390 through 397, whether or not the DOT regulations are applicable to a shipment of licensed material.

II. Environmental Assessment

Description of the Proposed Action

The EA defines the NRC's proposed action (i.e., to grant NIH's exemption request from 10 CFR 71.5) and the purpose of and need for the proposed action. The EA also evaluates the potential environmental impacts of the proposed action and alternatives to the proposed action, followed by the NRC's conclusion. Alternatives to the proposed action considered include: The no-action alternative (i.e., not granting the requested exemption); utilizing another route that does not cross a public road; and changing the destination of the irradiator. None of the alternatives is feasible or meets the purpose and need of the proposed action. Therefore, the proposed action is the preferred alternative.

The EA evaluates the potential environmental impacts of granting the exemption from the regulations in 10 CFR 71.5, so that the movement of the irradiator will not be subject to the DOT's hazardous material regulations. The only potential impacts from the proposed movement of the irradiator would be radiological impacts associated with an accident scenario. The analysis in the EA shows that the radiological impacts (direct, indirect, or cumulative) would be no greater than those for a transport of the irradiator if it were accomplished in accordance with the DOT regulations. Any non-radiological impacts, such as impacts to noise, visual/scenic, or socioeconomic environment, would be no greater than those for any other transport that meets all of the DOT regulations.

Agencies and Persons Consulted

The NRC provided the State of Maryland and the DOT a draft copy of this EA for a 30-day review on January 17, 2018 (ADAMS Accession Nos. ML18025B814 and ML18025B815). The State of Maryland did not respond and the NRC did not receive any comments on the draft EA and FONSI from DOT (ADAMS Accession No. ML18033A079).

The NRC staff has determined that the exemption from the requirements in 10 CFR 71.5 would have no impact on historic and cultural resources or ecological resources and, therefore, no consultations are necessary under Section 106 of the National Historic Preservation Act and Section 7 of the Endangered Species Act, respectively.

III. Finding of No Significant Impact

The NRC staff has prepared an EA and FONSI in support of the proposed action. The EA is available at ADAMS Accession No. ML18036A042. The NRC staff has concluded that the proposed action, granting an exemption to NIH from the transportation requirements in 10 CFR 71.5 for this one-time movement of an irradiator, will not significantly impact the quality of the human environment, and that the proposed action is the preferred alternative. On the basis of the environmental assessment, the NRC concludes that the proposed action will not have a significant effect on the quality of the human environment. Accordingly, the NRC has determined not to prepare an environmental impact statement for the proposed action.

Dated at Rockville, Maryland, this 20th day of February 2018.
For the Nuclear Regulatory Commission.
John McKirgan,
Chief, Spent Fuel Licensing Branch, Division of Spent Fuel Management, Office of Nuclear Material Safety and Safeguards.

[FR Doc. 2018-03789 Filed 2-23-18; 8:45 am]

BILLING CODE 7590-01-P